ENVIRONMENTAL PROTECTION AGENCY

[ER-FRL-6613-6]

Environmental Impact Statements; Notice of Availability

Responsible Agency: Office of Federal Activities, General Information (202) 564-7167 or www.epa.gov/oeca/ofa

Weekly receipt of Environmental Impact Statements

Filed December 04, 2000 Through December 08, 2000

Pursuant to 40 CFR 1506.9.

EIS No. 000423, Final EIS, AFS, ID, Swan Flat Timber Sale, Proposal to Cut and Haul Sawtimber, Caribou National Forest, Land Resource Management Plan (LRMP), Montpelier Ranger District, Bear Lake County, ID, Due: January 16, 2001, Contact: Eric Mattson (208) 847-0375.

EIS No. 000424, Final EIS, IBW, El Paso—Las Cruces Regional Sustainable Water Project, To Secure Future Drinking Water Supplies, United States and Mexico, Due: January 16, 2001, Contact: Douglas Echlin (915) 832-7441.

EIS No. 000425, Final EIS, UAF, WI, Hardwood Air-to-Surface Gunnery Range Expansion and Associated Airspace Actions, Military Operation Areas (MOA), WI, Due: January 16, 2001, Contact: Harry Knuden (301) 836-8143.

EIS No. 000426, Final EIS, AFS, ID, West Mountain North Project, Timber Harvest, Road Construction and Reconstruction), Boise National Forest, Cascade Ranger District, Valley County, ID, Due: January 16, 2001, Contact: David D. Rittenhouse (208) 373-4100.

EIS No. 000427, Final EIS, AFS, MT, Taylor Fork Timber Sale and Road Restoration, Implementation, Buck Creek, Taylor Fork Creek and Eldridge Creek, Gallatin National Forest, Madison Ranger, Hebgen Lake Ranger District, Yellow Stone, Gallatin County, MT, Due: January 16, 2001, Contact: Julie Neff-Shea (406) 587-6701.

EIS No. 000428, Draft EIS, EPA, NC, New Wilmington Ocean Dredged Material Disposal Site, Designation, Wilmington Harbor, North Carolina State Port and the Military Ocean Terminal (Sunny Point (MOTSU), NC, Due: January 29, 2001, Contact: Gary Collins (404) 562-9395.

EIS No. 000429, Final EIS, AFS, ID, Brownlee Vegetation and Access Management Project, Implementation, Weiser Ranger District, Payette National Forest, Washington County, ID, Due: January 16, 2001, Contact: John Baglien (208) 549-4200.

EIS No. 000430, Final EIS, FHW, NV, Reno Railroad Corridor, Implementation of the Freight Railroad Grade Separation Improvements in the Central Portion of the City of Reno, Washoe County, NV, Due: January 16, 2001, Contact: John T. Price (775) 687-1204.

EIS No. 000431, Draft EIS, BLM, WY, North Jacobs Ranch Coal Lease Application (WYW 146744), Federal Coal Tract, Located in the Powder River Basin, Campbell County, WY, Due: February 13, 2001, Contact: Nancy Doelger (307) 261-7627.

EIS No. 000432, Draft EIS, NPS, CA, Santa Monica Mountains National Recreation Area General Management Plan, Implementation, Los Angeles County, CA, Due: February 28, 2001, Contact: Alan Schmierer (415) 427-1441.

EIS No. 000433, Final EIS, IBR, CA, East Bay Municipal Utility District, Supplemental Water Supply Project, American River Division of the Central Valley Project (CVP), Sacramento County, CA, Due: January 16, 2001, Contact: Rob Schroeder (916) 988-1707.

EIS No. 000434, Final EIS, BIA, WA, Colville Indian Reservation Integrated Resource Management Plan, Implementation, Colville Indian Reservation, Okanogan and Ferry Counties, WA, Due: January 16, 2001, Contact: James R. Orwin (509) 634-2308.

EIS No. 000435, Draft EIS, IBR, WA, Keechelus Dam Project, Safety of Dams Modification, Implementation, COE Section 404 Permit, Yakima, Kittitas, Benton, and Klickitat Counties, WA, Due: February 09, 2001, Contact: Dave Kaumheimer (509) 575-5848.

EIS No. 000436, Draft EIS, AFS, CO, Baylor Park Blowdown Project, Salvage and Treat Down and Damaged Timber, To Reduce Impact of Spruce Beetles, Implementation, White River National Forest, Sopris and Rifle Ranger Districts, Garfield, Mesa, and Pitkin Counties, CO, Due: January 29, 2001, Contact: Jan Spencer (970) 945-2521.

EIS No. 000437, Final EIS, FAA, RI, T. F. Green Airport Project, To Implement the Part 150 Noise Abatement Procedures in a Safe and Efficient Manner, Warwick County, RI, Due: January 16, 2001, Contact: Theresa Flieger (781) 238-7524.

EIS No. 000438, Revised Draft EIS, FTA, CA, Orange County Centerline Project, Transportation Improvements, Revised Alternatives, Advanced Rail Transit in the Heart of Orange County, CA, Due: January 29, 2001, Contact: A. Joseph Ossi (202) 366-1613.

EIS No. 000439, Draft EIS, JUS, CA, Pinal County Private Detention Facility, To Develop and Operate a Pre-Trail Detention Facility, Pinal County, CA, Due: January 29, 2001, Contact: Charles Coburn (202) 307-9045.

EIS No. 000440, Final EIS, DOE, TN, WA, ID, Programmatic—Accomplishing Expanded Civilian Nuclear Energy Research and Development and Isotope Production Missions in the United States, Including the Role of the Fast Flux Test, ID, TN, WA, Due: January 16, 2001, Contact: Colette Brown (877) 562-4593.

EIS No. 000441, Draft EIS, NOA, HI, GU, AS, Pelagic Fisheries of the Western Pacific Region, Fishery Management Plan, To Analyze Longline Fisheries, Commercial Troll and Recreational Troll Fisheries, Commercial Pelagic Handliners and Commerical Pole and Line Skipjack Fishery, Hawaii, American Samoa, Guam and Commonwealth of the Northern Mariana Island, Due: January 29, 2001, Contact: Charles Karnella (808) 973-2941.

EIS No. 000442, Final Supplement, UAF, FL, Homestead Air Force Base (AFB) Disposal and Reuse, Implementation, Dade County, FL, Due: January 16, 2001, Contact: Doug Heady (703) 693-7314.

EIS No. 000443, Final EIS, DOD, AK, ND, AS, National Missile Defense (N.D.) Deployment System, Selection of Possible Deployment Sites: AK, AS and ND, Due: January 16, 2001, Contact: Julia Hudson (256) 955-4822.

EIS No. 000444, Final EIS, IBR, AZ, NV, CA, Colorado River Interim Surplus Criteria, To Determine Water Surplus for use within the States Arizona, California and Nevada (from 2001 through 2015), Colorado River Basin, AZ, CA and NV, Due: January 16, 2001, Contact: Jayne Harkens (702) 293-8785.

EIS No. 000445, Final EIS, AFS, WA, ID, OR, MT, Eastside Ecosystem Based Lands Management Plan, Implementation, Interior Columbia Basin Ecosystem Management Project, WA, OR, ID and MT, Due: January 16, 2001, Contact: Susan Giannettino (208) 334-1770.

The US Department of the Interior's Bureau of Land Management and Department of Agriculture's Forest Service are Joint Lead Agencies for this project.

EIS No. 000446, Draft EIS, TVA, MS, Kemper County Combustion Turbine Plant, Construction and Operation, Addition of Electric General Peaking Capacity at Greenfield Sites, NPDES Permit, Kemper County, MS, Due: January 29, 2001, Contact: Roy V. Carter (256) 386-2832.

Amended Notices

EIS No. 000393, Draft EIS, BLM, OR, Rogue National Wild and Scenic River Hellgate Recreation Area (Applegate River to Grave Creek) Management Plan, Implementation, Bedford District, Josephine County, OR, Due: February 24, 2001, Contact: Cori Cooper (541) 618-2428. Published FR-11-24-00—Correction to Title.

EIS No. 000420, Draft Supplement, NOA, Atlantic Sea Scallop Fishery Management Plan (FMP), Updated Information, Framework Adjustment 14 to adjust the annual Amendment 7 day-at-sea allocation for 2001 and 2002 and to re-open portions of the Hudson Canyon and Virginia/North Carolina Areas for Scallop Fishing, Due: January 24, 2001, Contact: Patricia Kurkal (978) 281-9300.

Published FR 12-08-00

Correction to Title and Contact Name and Phone.

Dated: December 12, 2000.
Joseph C. Montgomery,
Director, NEPA Compliance Division, Office of Federal Activities.

[FR Doc. 00-32044 Filed 12-14-00; 8:45 am]

BILLING CODE 6560-50-P